ENVIRONMENTAL PROTECTION AGENCY

[FRL OPRM-FAD-208]

Environmental Impact Statements; Notice of Availability

Responsible Agency: Office of Federal Activities, General Information 202-993-3272 or https://www.epa.gov/nepa.

Weekly receipt of Environmental Impact Statements (EIS)

Filed January 26, 2026 10 a.m. EST Through February 2, 2026 10 a.m. EST

Pursuant to CEQ Guidance on 42 U.S.C. 4332.

Notice

Section 309(a) of the Clean Air Act requires that EPA make public its comments on EISs issued by other Federal agencies. EPA's comment letters on EISs are available at: https://cdxapps.epa.gov/cdx-enepa-II/public/action/eis/search.

EIS No. 20260000, Final, BLM, OR, Grassy Mountain Mine, Review Period Ends: 03/06/2026, Contact: Caryn Burri 541-473-6229.

EIS No. 20260001, Draft, FERC, MS, Tennessee Gas Pipeline Company, LLC et al. re the Mississippi Crossing Project and the South System Expansion 4 Project, Comment Period Ends: 03/23/2026, Contact: Office of External Affairs 866-208-3372.

EIS No. 20260002, Final, FERC, VT, Hydropower Licenses re the Wilder Hydroelectric Project et al., Review Period Ends: 03/09/2026, Contact: Office of External Affairs 866-208-3372.

EIS No. 20260003, Final, FERC, MA, Hydropower Licenses re the Northfield Mountain Pumped Storage Project et al., Review Period Ends: 03/09/2026, Contact: Office of External Affairs 866-208-3372.

EIS No. 20260004, Final, BLM, OR, Bridge Creek Area Allotment Management Plans, Review Period Ends: 03/09/2026, Contact: Donald Rotell 541-573-4400.

EIS No. 20260005, Final, FAA, FL, SpaceX Starship-Super Heavy Launch Vehicle at Launch Complex 39A at the Kennedy Space Center, Merritt Island, Florida, Contact: Eva Long 202-267-9305.

EIS No. 20260006, Draft, NRCS, OR, Central Oregon Irrigation District Pilot Butte Canal Infrastructure Modernization Project, Comment Period Ends: 03/31/2026, Contact: Gary Diridoni 503-414-3092.

EIS No. 20260007, Final, USACE, MI, Enbridge Line 5 Tunnel Project, Review Period Ends: 03/09/2026, Contact: Katie Otanez 313-226-5479.

EIS No. 20260008, Draft, USDA, GA, Dresden-Talbot County 500kV Transmission Line Construction, Dresden 500/230kV Substation Modification, and Talbot County 230kV Substation Modification Project, Comment Period Ends: 02/09/2026, Contact: Suzanne Kopich 202-961-8514.

Amended Notice

EIS No. 20250181, Draft Supplement, BLM, CA, Central Coast Field Office Oil and Gas, Leasing and Development, California, Comment Period Ends: 03/13/2026, Contact: Sarah Mathews 831-582-2257. Revision to FR Notice Published 01/16/2026; Extending the Comment Period from 03/06/2026 to 03/13/2026.

EIS No. 20250182, Draft Supplement, BLM, CA, Bakersfield Field Office Oil and Gas Leasing and Development, California, Comment Period Ends: 03/13/2026, Contact: Sarah Mathews 661-391-6145. Revision to FR Notice Published 01/16/2026; Extending the Comment Period from 03/06/2026 to 03/13/2026.

Dated: February 3, 2026.
Nancy Abrams,
Deputy Director, Federal Activities Division.

[FR Doc. 2026-02362 Filed 2-5-26; 8:45 am]

BILLING CODE 6560-50-P